DEPARTMENT OF HEALTH AND HUMAN SERVICES

Food and Drug Administration

21 CFR Part 59

[Docket No. 2004N-0184]

RIN 0910-AB96

Requirements Pertaining to Sampling Services and Private Laboratories Used in Connection With Imported Food; Correction

AGENCY: Food and Drug Administration, HHS.

ACTION: Proposed rule; correction.

SUMMARY: The Food and Drug Administration (FDA) is correcting a proposed rule that appeared in the Federal Register of April 29, 2004 (69 FR 23460). The document proposed new regulations for persons who use sampling services (services that collect samples for another party) and private laboratories used in connection with imported food. The document was published with inadvertent errors. This document corrects those errors.

FOR FURTHER INFORMATION CONTACT: Joyce Strong, Office of Policy and Planning (HF-27), Food and Drug Administration, 5600 Fishers Lane, Rockville, MD 20857, 301-827-7010.

SUPPLEMENTARY INFORMATION: In FR Doc. 04-9699, appearing on page 23460 in the Federal Register of Thursday, April 29, 2004, the following corrections are made:

1. On page 23460, in the second column, in the heading of the document, “[Docket No. 2002N-0085]” is corrected to read “[Docket No. 2004N-0184]”.

2. On page 23460, in the second column, in the ADDRESSES section, in the line beginning with “identified by Docket No. 2002N-0085,”, “[Docket No. 2002N-0085]” is corrected to read “[Docket No. 2004N-0184]”.

3. On page 23460, in the third column, in the ADDRESSES section, in the seventh line beginning with “Include Docket No. 2002N-0085”, “[Docket No. 2002N-0085]” is corrected to read “[Docket No. 2004N-0184]”

Dated: May 19, 2004.
Jeffrey Shuren,
Assistant Commissioner for Policy.

[FR Doc. 04-11827 Filed 5-25-04; 8:45 am]

BILLING CODE 4160-01-S